DEPARTMENT OF TRANSPORTATION

National Highway Traffic Safety Administration

[Docket No. NHTSA-2016-XXXX]

Driving Behavioral Change in Traffic Safety

AGENCY: National Highway Traffic Safety Administration (NHTSA), U.S. Department of Transportation (DOT).

ACTION: Notice.

SUMMARY: The National Highway Traffic Safety Administration (NHTSA) is announcing a meeting that will be held in Washington, DC on March 10-11, 2016 to explore ways to promote evidence-based behavior change in a traffic safety setting. The Driving Behavioral Change in Traffic Safety workshop will include presentations and discussions on a number of topics including analysis and feasibility of using different approaches to changing behavior; exploring promising untested strategies; identifying long-term pathways to eliminate fatalities; and considering how evidence-based behavior change strategies can be used in the broader policy discussion. Attendance at the meeting is limited to invited participants because of space limitations of the DOT Conference Center. However, the meeting will be available for live public viewing on the NHTSA Web site (www.nhtsa.gov).

DATES: The meeting will be held on March 10, 2016 from 8:30 a.m. to 4:30 p.m. and on March 11, 2016 from 8:30 a.m. to 12:00 p.m.

ADDRESSES: The meeting will be held in the Media Center of the U.S. Department of Transportation, 1200 New Jersey Avenue SE., Washington, DC 20590.

FOR FURTHER INFORMATION CONTACT: Ms. Esther Wagner, Telephone: 202-366-0932; email address: esther.wagner@dot.gov.

SUPPLEMENTARY INFORMATION: NHTSA will host a workshop to launch a new behavioral safety initiative. The Driving Behavioral Change in Traffic Safety forum will begin with an introduction by NHTSA Administrator Mark Rosekind, followed by presentation of the history of NHTSA's behavioral safety programs and a discussion of its status in practice. The forum will also include panels focusing on evidence-based behavior-change strategies; the feasibility of using different approaches to behavior change in traffic safety; consideration of promising strategies that are not evidence-based; a discussion of the changes necessary to achieve near-zero traffic safety deaths; and how to place this issue in the broader policy context to drive action.

Invited participants will include representatives from a number of topic areas including the behavioral sciences, traffic safety, and public health, as well as from diverse organizations including advocacy groups, industry, state government, and other Federal Agencies.

NHTSA will use this forum to discuss research and program objectives, consider priority public policy needs to address behaviors that lead to deaths and injuries in traffic crashes. Addressing behavioral safety is a top priority for this Administration.

Workshop Procedures. NHTSA will conduct the meeting informally. Thus, technical rules of evidence will not apply.

The workshop will consist of presentations and panels. Each panel will have two or three short presentations, a roundtable discussion among the panel members, and questions from the other participants to be discussed by the meeting participants.

Authority: 49 U.S.C. 30182.

Issued on: February 9, 2016.
Jeff Michael,
Associate Administrator for Research and Program Development.

[FR Doc. 2016-03040 Filed 2-12-16; 8:45 am]

BILLING CODE 4910-59-P